DEPARTMENT OF DEFENSE

Department of the Air Force

[AFD-2200]

Notice of Intent To Grant a Joint Ownership Agreement With an Exclusive Patent License

AGENCY: Department of the Air Force, Department of Defense.

ACTION: Notice of intent.

SUMMARY: Pursuant to the Bayh-Dole Act and implementing regulations, the Department of the Air Force hereby gives notice of its intent to grant a joint ownership agreement with an Exclusive Patent License to The Board of Trustees of the University of Alabama, for and on behalf of The University of Alabama in Huntsville having a place of business at 301 Sparkman Drive NW, Huntsville, AL 35899.

DATES: Written objections must be filed no later than fifteen (15) calendar days after the date of publication of this Notice.

ADDRESSES: Submit written objections to William Loux, AFRL/RWPB, 101 West Eglin Boulevard, Eglin AFB, FL 32542; Phone: (850) 882-3920; or Email: afrl.rw.techtransfer@us.af.mil. Include Docket No. AFD-2200 in the subject line of the message.

FOR FURTHER INFORMATION CONTACT: William Loux, AFRL/RWPB, 101 West Eglin Boulevard, Eglin AFB, FL 32542; phone: (850) 882-3920; or email: afrl.rw.techtransfer@us.af.mil.

SUPPLEMENTARY INFORMATION:

Abstract of patent application(s): An image processing system receives a digital image and analyzes the digital image to determine a resolution limit, referred to herein as “feature resolution,” for measuring a metric for features of the image within an acceptable margin of error. Specifically, the system segments a digital image and calculates the error associated with the segmented data when features within a certain range a measured metric (e.g., size range) are removed from the segmented data. This analysis can be repeatedly performed with different cutoff values for the metric until at least a threshold amount of error is reached, thereby indicating a resolution limit at the boundary of an acceptable amount of error.

Intellectual property: U.S. Application No. 17/671,527, filed on February 14, 2022, and entitled “Systems and Methods for Determining Feature Resolution of Image Data.”

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Authority: 35 U.S.C. 209; 37 CFR part 404.

Tommy W. Lee,
Acting Air Force Federal Register Liaison Officer.

[FR Doc. 2024-28824 Filed 12-6-24; 8:45 am]

BILLING CODE 3911-44-P